DEPARTMENT OF ENERGY

Federal Energy Regulatory Commission

[Project No. 2351-017]

Public Service Company of Colorado;

Notice of Application Tendered for Filing With the Commission and Establishing Procedural Schedule for Licensing and Deadline for Submission of Final Amendments

Take notice that the following hydroelectric application has been filed with the Commission and is available for public inspection.

a. Type of Application: New Major License.

b. Project No.: 2351-017.

c. Date Filed: February 27, 2012.

d. Applicant: Excel Energy Services, Inc. on behalf of Public Service Company of Colorado.

e. Name of Project: Cabin Creek Pumped Storage Project.

f. Location: The existing project is located on the South Clear Creek and its tributary Cabin Creek in Clear Creek County, Colorado. The project, as currently licensed, is located on 267 acres of U.S. Forest Service lands within the Arapahoe National Forest.

g. Filed Pursuant to: Federal Power Act, 16 USC 791 (a)-825(r).

h. Applicant Contact: Christine E. Johnston, Xcel Energy, 4653 Table Mountain Drive, Golden, CO 80403; (720) 497-2156.

i. FERC Contact: David Turner, (202) 502-6091.

j. This application is not ready for environmental analysis at this time.

k. The Project Description: The existing project includes the following facilities: (1) A 210-foot-high, 1,458-foot-long concrete-faced rockfill Upper Dam across Cabin Creek; (2) a 25.4 acre upper reservoir with 1,087 acre-feet of usable storage between the maximum operating elevation of 11,196 feet mean sea level (msl) and the minimum operating elevation of 11,140 feet msl; (3) a 95-foot-high, 1,195-foot-long earthfill and rockfill Lower Dam across South Clear Creek; (4) a 44.8-acre lower reservoir with 1,221 acre-feet of usable storage between the maximum operating elevation of 10,002 feet msl and 9,975 feet msl; (5) a 145-foot-long auxiliary spillway constructed in the embankment of the lower reservoir with a crest elevation of 10,013 feet; (6) an intake structure located near the bottom of the upper reservoir; (7) a 12 to 15-foot-diameter, 4,143-foot-long power tunnel; (8) two 75-foot-long, 8.5-foot-diameter penstocks directing flow from the power tunnel to the powerhouse turbines; (9) a powerhouse installed at the lower reservoir containing two reversible turbine-generator units rated at 150 megawatts (nameplate capacity) each; (10) a switchyard located next to the powerhouse; (11) three miles of gravel access roads; and (12) appurtenant facilities.

Cabin Creek is a pumped storage project. The normal daily operation cycle involves pumping water from the lower reservoir to the upper reservoir during off-peak periods of energy demand and generating electricity with water released from the upper reservoir during the high energy demand part of the day. Under the current license, the applicant is required to provide a continuous release from the lower reservoir of three cubic feet per second or inflow, whichever is less, to South Clear Creek.

The applicant proposes the following changes to the project: (1) Upgrade the pump-generation equipment; (2) raise the usable storage capacity of the upper reservoir 75 acre-feet by raising the height of the dam 4.5 feet; and (3) increase the project boundary by 59 acres.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via email of new filings and issuances related to this or other pending projects. For assistance, contact FERC Online Support.

n. Procedural Schedule:

The application will be processed according to the following preliminary Hydro Licensing Schedule. Revisions to the schedule may be made as appropriate.

Milestone | Target date
Notice of Acceptance/Notice of Ready for Environmental Analysis | April 27, 2012.
Filing of recommendations, preliminary terms and conditions, and fishway prescriptions | June 26, 2012.
Commission issues Non-Draft EA | October 24, 2012.
Comments on EA | November 23, 2012.
Modified terms and conditions | January 22, 2012.

o. Final amendments to the application must be filed with the Commission no later than 30 days from the issuance date of the notice of ready for environmental analysis.

Dated: March 7, 2012.
Kimberly D. Bose,
Secretary.

[FR Doc. 2012-6107 Filed 3-13-12; 8:45 am]

BILLING CODE 6717-01-P